DEPARTMENT OF AGRICULTURE

Submission for OMB Review; Comment Request

August 3, 2011.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV; or fax (202) 395-5806 and to Departmental Clearance Office, USDA, OCIO, Mail Stop 7602, Washington, DC 20250-7602.

DATES: Comments regarding these information collections are best assured of having their full effect if received by September 7, 2011. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Data Collection for Container Availability.

OMB Control Number: 0581—NEW.

Summary of Collection: The Agricultural Marketing Act of 1946 (7 U.S.C. 1621-1627) directs and authorizes the collection and dissemination of marketing information including adequate outlook information, on a market area basis, for the purpose of anticipating and meeting consumer requirements aiding in the maintenance of farm income and to bring about a balance between production and utilization. As part of the Agricultural Marketing Service (AMS), the Transportation Services Division (TSD) informs, represents, and assists agricultural shippers and government policymakers through: Market reports, representation, analysis, assistance, and responses to inquiries.

Need and Use of the Information: TSD collects data for its analysis from public resources as well as unique data sources to help the agricultural exporters make the most out of the transportation options available. The new Data Collection for Container Availability will provide U.S. agricultural exporters with weekly data detailing the availability of containers at select locations around the country. AMS will collect these data on a voluntary basis from ocean container carriers and then provide these up-to-date data in an aggregate report on its Web site.

Description of Respondents: Business or other for-profit.

Number of Respondents: 21.

Frequency of Responses: Reporting: Weekly.

Total Burden Hours: 1,759.

Charlene Parker,
Departmental Information Collection Clearance Officer.

[FR Doc. 2011-20007 Filed 8-5-11; 8:45 am]

BILLING CODE 3410-02-P